DEPARTMENT OF TRANSPORTATION

Federal Aviation Administration

Nineteenth RTCA SC-227 Standards of Navigation Performance Navigation Information on Electronic Maps

AGENCY: Federal Aviation Administration (FAA), U.S. Department of Transportation (DOT).

ACTION: Nineteenth RTCA SC-227 Standards of Navigation Performance Navigation Information on Electronic Maps.

SUMMARY: The FAA is issuing this notice to advise the public of a meeting of Nineteenth RTCA SC-227 Standards of Navigation Performance Navigation Information on Electronic Maps.

DATES: The meeting will be held Monday through Thursday, December 05-08, 2016 09:00 a.m.-05:00 p.m.

ADDRESSES: The meeting will be held at: RTCA Headquarters, 1150 18th Street NW., Suite 910, Washington, DC 20036.

FOR FURTHER INFORMATION CONTACT: Claudia Chaudhari at cchaudhari@rtca.org or 202-330-0662, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Nineteenth RTCA SC-227 Standards of Navigation Performance Navigation Information on Electronic Maps. The agenda will include the following:

Plenary—Monday, December 5, 2016, 09:00 a.m.-10:00 a.m.

1. Welcome and Administrative Remarks

2. Introduction

3. Review of Minutes from Meeting 18.

4. Agenda Overview

a. Schedule

b. New Business

5. Review and discussion of MOPS issues and change proposals.

Closing Plenary—Thursday, December 8, 2016, 3:30 p.m.-4:30 p.m.

1. Working Group 3 Progress Report/Summary

2. Other Business

3. Date of Next Meeting

4. Adjourn

All other times will be designated for Working Groups.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 9, 2016.
Mohannad Dawoud,
Management & Program Analyst, Partnership Contracts Branch, ANG-A17, NextGen, Procurement Services Division, Federal Aviation Administration.

[FR Doc. 2016-27390 Filed 11-14-16; 8:45 am]

BILLING CODE 4910-13-P